INTERNATIONAL TRADE COMMISSION

[Investigation Nos. 731-TA-1546-1549 (Final)]

Thermal Paper From Germany, Japan, Korea, and Spain

Determinations

On the basis of the record ¹ developed in the subject investigations, the United States International Trade Commission (“Commission”) determines, pursuant to the Tariff Act of 1930 (“the Act”), that an industry in the United States is materially injured by reason of imports of thermal paper from Germany, Japan, Korea, and Spain, provided for in subheadings 4811.90.80 and 4811.90.90 (statistical reporting numbers 4811.90.8030 and 4811.90.9030) of the Harmonized Tariff Schedule of the United States, that have been found by the U.S. Department of Commerce (“Commerce”) to be sold in the United States at less than fair value (“LTFV”).2 3

¹ The record is defined in § 207.2(f) of the Commission's Rules of Practice and Procedure (19 CFR 207.2(f)).

² 86 FR 54152, 86 FR 54157, 86 FR 54154, and 86 FR 54162 (September 30, 2021).

³ The Commission also finds that imports subject to Commerce's affirmative critical circumstances determinations are not likely to undermine seriously the remedial effect of the antidumping duty orders on Germany and Korea.

Background

The Commission instituted these investigations effective October 7, 2020, following receipt of petitions filed with the Commission and Commerce by Appvion Operations, Inc. (Appleton, Wisconsin) and Domtar Corporation (Fort Mill, South Carolina). The Commission scheduled the final phase of the investigations following notification of preliminary determinations by Commerce that imports of thermal paper from Germany, Japan, Korea, and Spain were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of June 9, 2021 (86 FR 30627) and June 24, 2021 (86 FR 33358). In light of the restrictions on access to the Commission building due to the COVID-19 pandemic, the Commission conducted its hearing through written testimony and video conference on September 21, 2021. All persons who requested the opportunity were permitted to participate.

The Commission made these determinations pursuant to § 735(b) of the Act (19 U.S.C. 1673d(b)). It completed and filed its determinations in these investigations on November 15, 2021. The views of the Commission are contained in USITC Publication 5237 (November 2021), entitled Thermal Paper from Germany, Japan, Korea, and Spain: Investigation Nos. 731-TA-1546-1549 (Final).

By order of the Commission.
Issued: November 15, 2021.
Lisa Barton,
Secretary to the Commission.

[FR Doc. 2021-25216 Filed 11-18-21; 8:45 am]

BILLING CODE 7020-02-P